DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Funding Opportunity Announcement (FOA) PAR15-352, Occupational Safety and Health Training Projects.

SUMMARY: This publication corrects a notice that was published in the Federal Register on December 6, 2016, 2016 Volume 81, Number 234, pages 87938-87939. The dates should read as follows:

1:00 p.m.-6:00 p.m., EST, January 18, 2017 (Closed)

1:00 p.m.-6:00 p.m., EST, January 19, 2017 (Closed)

Contact Person for More Information: Nina L. Turner, Ph.D., Scientific Review Officer, CDC, 1095 Willowdale Road, Mailstop L1055, Morgantown, WV Telephone: (304) 285-6047, NTURNER@CDC.GOV. The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2016-30518 Filed 12-19-16; 8:45 am]

BILLING CODE 4163-18-P